NATIONAL FOUNDATION OF THE ARTS AND THE HUMANITIES

Institute of Museum and Library Services

38th Meeting of the National Museum and Library Services Board

AGENCY: Institute of Museum and Library Services (IMLS), National Foundation of the Arts and the Humanities (NFAH).

ACTION: Notice of meeting.

SUMMARY: Pursuant to the Federal Advisory Committee Act, notice is hereby given that the National Museum and Library Services Board will meet to advise the Director of the Institute of Museum and Library Services (IMLS) with respect to duties, powers, and authority of IMLS relating to museum, library, and information services, as well as coordination of activities for the improvement of these services.

Dates and Time: The meeting will be held on November 1, 2018, from 9:00 a.m. until adjourned.

Place: The meeting will be held at 955 L'Enfant Plaza SW, Suite 4000, Washington, DC 20024.

FOR FURTHER INFORMATION CONTACT: Katherine Maas, Project Specialist and Alt. Designated Federal Officer, Institute of Museum and Library Services, Suite 4000, 955 L'Enfant Plaza North SW, Washington, DC 20024; (202) 653-4798; kmaas@imls.gov (mailto: kmaas@imls.gov).

SUPPLEMENTARY INFORMATION: The National Museum and Library Services Board is meeting pursuant to the National Museum and Library Service Act, 20 U.S.C. 9105a, and the Federal Advisory Committee Act (FACA), as amended, 5 U.S.C. App.

The 38th Meeting of the National Museum and Library Services Board will be held on November 1, 2018. A plenary session (open to the public) will convene at 9:00 a.m., followed by an Executive Session (closed to the public) discussion of specific agreements and programs before the Board.

The agency for the plenary session of the National Museum and Library Services Board will be as follows:

I. Welcome and Director's Report

II. Approval of Minutes

III. Office of Library Services Report

IV. Office of Museum Services Report

V. Office of Digital and Information Strategy Report

VI. Financial and Operations Report

VII. Legislative and Policy Report

As identified above, portions of the meeting of the National Museum and Library Services Board will be closed to the public pursuant to subsections (c)(4), (c)(6) and (c)(9) of section 552b of Title 5, United States Code, as amended. The closed session will consider information that may disclose: Trade secrets and commercial or financial information obtained from a person and privileged or confidential; and information the premature disclosure of which would be likely to significantly frustrate implementation of a proposed agency action.

If you wish to attend the public session of the meeting, please inform IMLS as soon as possible by contacting Katherine Maas at (202) 653-4798 or kmaas@imls.gov. Please provide advance notice of any special needs or accommodations.

Meetings of the National Museum and Library Services Board were previously noticed under the Government in Sunshine Act, 5 U.S.C. 552b. With the passage of the Presidential Appointment Efficiency and Streamlining Act of 2011, Public Law 112-166, and subsequent appointments to the Board, the provisions of FACA are now applicable. A FACA committee charter for the Board, reflecting its statutory authority set out in 20 U.S.C. Section 9105a, has been established and filed.

Dated: October 12, 2018.
Danette Hensley,
Staff Assistant, Office of the General Counsel.

[FR Doc. 2018-22618 Filed 10-16-18; 8:45 am]

BILLING CODE 7036-01-P